DEPARTMENT OF HEALTH AND HUMAN SERVICES

Centers for Disease Control and Prevention

[30Day-05-0138]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210 or send an email to omb@cdc.gov. Send written comments to CDC Desk Officer, Human Resources and Housing Branch, New Executive Office Building, Room 10235, Washington, DC 20503 or by fax to (202) 395-6974. Written comments should be received within 30 days of this notice.

Proposed Project

Pulmonary Function Testing Course Approval Program, 29 CFR 1910.1043, OMB No. 0920-0138—Revision—National Institute for Occupational Safety and Health (NIOSH), Centers for Disease Control and Prevention (CDC).

NIOSH has the responsibility under the Cotton Dust Standard, 29 CFR 1920.1043, for approving courses to train technicians to perform pulmonary function testing in the Cotton Dust Industry. Successful completion of a NIOSH-approved course is mandatory under the Standard. To carry out its responsibility, NIOSH maintains a Pulmonary Function Testing Course Approval Program. The program consists of an application submitted by potential sponsors who seek NIOSH approval to conduct courses. The application form and added materials, including an agenda, vitae, and course materials are reviewed by NIOSH to determine if the applicant has developed a program which adheres to the criteria required in the Standard. Following approval, any subsequent changes to the course are submitted by course sponsors via letter or e-mail and reviewed by NIOSH staff to assure that the changes in faculty or course content continue to meet course requirements.

Course sponsors also voluntarily submit an annual report to inform NIOSH of their class activity level and if any faculty changes have occurred. Applications and materials to be a course sponsor and carry out training are submitted voluntarily by institutions and organizations throughout the country. This is required by NIOSH to evaluate a course to determine whether it meets the criteria in the Standard and whether technicians will be adequately trained as mandated under the Standard. One question regarding faculty changes was added to the previously approved annual report. There will be no cost to respondents except their time to participate. The estimated annualized burden is 64 hours.

Annualized Burden Table
Respondents | Number of respondents | Number of responses/ respondents | Average burden/ response (in hrs)
Initial Application | 5 | 1 | 3.5
Annual Report | 50 | 1 | 45/60
Report for Course Changes | 12 | 1 | 45/60

Dated: November 29, 2004.
B. Kathy Skipper,
Acting Director, Management Analysis and Services Office, Centers for Disease Control and Prevention.

[FR Doc. 04-26913 Filed 12-7-04; 8:45 am]

BILLING CODE 4163-18-P